DEPARTMENT OF ENERGY

Federal Energy Regulatory Commission

Combined Notice of Filings

Take notice that the Commission has received the following Natural Gas & Oil Pipeline Rate and Refund Report filings:

Filings Instituting Proceedings

Docket Numbers: RP23-874-000.

Applicants: Columbia Gulf Transmission, LLC.

Description: § 4(d) Rate Filing: Total Negotiated Rate Amendment to be effective 7/1/2023.

Filed Date: 6/30/23.

Accession Number: 20230630-5160.

Comment Date: 5 p.m. ET 7/12/23.

Docket Numbers: RP23-875-000.

Applicants: Texas Eastern Transmission, LP.

Description: § 4(d) Rate Filing: Negotiated Rates—BU to Enhanced Energy 8984043 eff 7-1-23 to be effective 7/1/2023.

Filed Date: 6/30/23.

Accession Number: 20230630-5169.

Comment Date: 5 p.m. ET 7/12/23.

Docket Numbers: RP23-876-000.

Applicants: Tres Palacios Gas Storage LLC.

Description: § 4(d) Rate Filing: Tres Palacios Gas Storage LLC Filing of Tariff Modifications to be effective 10/1/2023.

Filed Date: 6/30/23.

Accession Number: 20230630-5220.

Comment Date: 5 p.m. ET 7/12/23.

Docket Numbers: RP23-877-000.

Applicants: LA Storage, LLC.

Description: § 4(d) Rate Filing: Filing of Negotiated Rate, Conforming IW Agreements 6.30.23 to be effective 7/1/2023.

Filed Date: 6/30/23.

Accession Number: 20230630-5224.

Comment Date: 5 p.m. ET 7/12/23.

Docket Numbers: RP23-878-000.

Applicants: NEXUS Gas Transmission, LLC.

Description: § 4(d) Rate Filing: Negotiated Rates—Various Releases eff 7-1-2023 to be effective 7/1/2023.

Filed Date: 7/3/23.

Accession Number: 20230703-5000.

Comment Date: 5 p.m. ET 7/17/23.

Docket Numbers: RP23-879-000.

Applicants: Equitrans, L.P.

Description: § 4(d) Rate Filing: Negotiated Rate Capacity Release Agreements—7/1/2023 to be effective 7/1/2023.

Filed Date: 7/3/23.

Accession Number: 20230703-5036.

Comment Date: 5 p.m. ET 7/17/23.

Docket Numbers: RP23-880-000.

Applicants: NEXUS Gas Transmission, LLC.

Description: § 4(d) Rate Filing: Negotiated Rates—Columbia to Symmetry 963304 eff 7-4-23 to be effective 7/4/2023.

Filed Date: 7/3/23.

Accession Number: 20230703-5081.

Comment Date: 5 p.m. ET 7/17/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-847-001.

Applicants: Texas Eastern Transmission, LP

Description: Tariff Amendment: Amendment Filing—NegRate DTE 911749 to be effective 7/1/2023.

Filed Date: 6/30/23.

Accession Number: 5119

Comment Date: 5 p.m. ET 7/12/23

Docket Numbers: RP23-863-001.

Applicants: Tennessee Gas Pipeline Company, L.L.C.

Description: Tariff Amendment: Amendment TGP Powerserve to be effective 10/1/2023.

Filed Date: 6/30/23.

Accession Number: 20230630-5243.

Comment Date: 5 p.m. ET 7/12/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For other information, call (866) 208-3676 (toll free). For TTY, call (202) 502-8659. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 3, 2023.
Debbie-Anne A. Reese,
Deputy Secretary.

[FR Doc. 2023-14489 Filed 7-7-23; 8:45 am]

BILLING CODE 6717-01-P